CONSUMER PRODUCT SAFETY COMMISSION

16 CFR Chapter II

Semiannual Regulatory Agenda

AGENCY: U.S. Consumer Product Safety Commission.

ACTION: Semiannual regulatory agenda.

SUMMARY: In this document, the Commission publishes its semiannual regulatory flexibility agenda. In addition, this document includes an agenda of regulatory actions that the Commission expects to be under development or review by the agency during the next year. This document meets the requirements of the Regulatory Flexibility Act and Executive Order 12866.

DATES: The Commission welcomes comments on the agenda and on the individual agenda entries. Submit comments to the Division of the Secretariat on or before April 30, 2021.

ADDRESSES: Caption comments on the regulatory agenda, “Regulatory Flexibility Agenda.” You can submit comments by email to: cpsc-os@cpsc.gov. You can also submit comments by mail or delivery to the Division of the Secretariat, U.S. Consumer Product Safety Commission, Room 820, 4330 East-West Highway, Bethesda, MD 20814-4408.

FOR FURTHER INFORMATION CONTACT: For further information on the agenda, in general, contact Meridith L. Kelsch, Office of the General Counsel, U.S. Consumer Product Safety Commission, 4330 East-West Highway, Bethesda, MD 20814-4408, mkelsch@cpsc.gov. For further information regarding a particular item on the agenda, contact the person listed in the column titled, “Contact,” for that particular item.

SUPPLEMENTARY INFORMATION: The Regulatory Flexibility Act (RFA; 5 U.S.C. 601-612) contains several provisions intended to reduce unnecessary and disproportionate regulatory requirements on small businesses, small governmental organizations, and other small entities. Section 602 of the RFA requires each agency to publish, twice a year, a regulatory flexibility agenda containing “a brief description of the subject area of any rule which the agency expects to propose or promulgate which is likely to have a significant economic impact on a substantial number of small entities.” 5 U.S.C. 602. The agency must provide a summary of the nature of the rule, the objectives and legal basis for the rule, and an approximate schedule for acting on each rule for which the agency has issued a notice of proposed rulemaking. Id. In addition, the regulatory flexibility agenda must contain the name and telephone number of an agency official who is knowledgeable about the items listed. Id. Agencies must attempt to provide notice of their agendas to small entities and solicit their comments, by directly notifying them, or by including the agenda in publications that small entities are likely to obtain. Id.

In addition, Executive Order 12866, Regulatory Planning and Review (Sept. 30, 1993), requires each agency to publish, twice a year, a regulatory agenda of regulations under development or review during the next year. 58 FR 51735 (Oct. 4, 1993). The Executive Order states that agencies may combine this agenda with the regulatory flexibility agenda required under the RFA. The agenda required by Executive Order 12866 must include all of the regulatory activities the agency expects to be under development or review during the next 12 months, regardless of whether they may have a significant economic impact on a substantial number of small entities. This agenda also includes regulatory activities that the Commission listed in the spring 2020 agenda and has completed prior to publishing this agenda.

The agenda contains a brief description and summary of each regulatory activity, including the objectives and legal basis for each; an approximate schedule of target dates, subject to revision, for the development or completion of each activity; and the name and telephone number of an agency official who is knowledgeable about items in the agenda.

The internet is the primary means for disseminating the Unified Agenda. The complete Unified Agenda will be available online at: www.reginfo.gov, in a format that allows users to obtain information from the agenda database.

Because agencies must publish in the Federal Register the regulatory flexibility agenda required by the RFA (5 U.S.C. 602), the Commission's printed agenda entries include only:

(1) Rules that are in the agency's regulatory flexibility agenda, in accordance with the RFA, because they are likely to have a significant economic impact on a substantial number of small entities; and

(2) Rules that the agency has identified for periodic review under section 610 of the RFA.

The entries in the Commission's printed agenda are limited to fields that contain information that the RFA requires in an agenda. Additional information on these entries is available in the Unified Agenda published on the internet.

The agenda reflects the Commission's assessment of the likelihood that the specified event will occur during the next year; the precise dates for each rulemaking are uncertain. New information, changes of circumstances, or changes in the law, may alter anticipated timing. In addition, you should not infer from this agenda a final determination by the Commission or its staff regarding the need for, or the substance of, any rule or regulation.

Alberta E. Mills,
Secretary, Consumer Product Safety Commission.

Consumer Product Safety Commission—Final Rule Stage
Sequence No. | Title | Regulation Identifier No.
410 | Regulatory Options for Table Saws (Reg Plan Seq No. 124) | 3041-AC31
411 | Recreational Off-Road Vehicles | 3041-AC78
References in boldface appear in The Regulatory Plan in part II of this issue of the Federal Register.

Consumer Product Safety Commission—Long-Term Actions
Sequence No. | Title | Regulation Identifier No.
412 | Portable Generators | 3041-AC36

Consumer Product Safety Commission—Completed Actions
Sequence No. | Title | Regulation Identifier No.
413 | Standard for Gates and Other Enclosures | 3041-AD44

CONSUMER PRODUCT SAFETY COMMISSION (CPSC)

Final Rule Stage

410. Regulatory Options for Table Saws

Regulatory Plan: This entry is Seq. No. 124 in part II of this issue of the Federal Register.

RIN: 3041-AC31

411. Recreational Off-Road Vehicles

E.O. 13771 Designation: Independent agency.

Legal Authority: 15 U.S.C. 2056; 15 U.S.C. 2058

Abstract: The Commission is considering whether recreational off-road vehicles (ROVs) present an unreasonable risk of injury that should be regulated. Staff conducted testing and evaluation programs to develop performance requirements addressing vehicle stability, vehicle handling, and occupant protection. In 2014, the Commission issued an NPRM proposing standards addressing vehicle stability, vehicle handling, and occupant protection. Congress directed in fiscal year 2016, and reaffirmed in subsequent fiscal year appropriations, that none of the amounts made available by the Appropriations Bill may be used to finalize or implement the proposed Safety Standard for Recreational Off-Highway Vehicles until after the National Academy of Sciences completes a study to determine specific information as set forth in the Appropriations Bill. Staff ceased work on a Final Rule briefing package and instead engaged the Recreational Off-Highway Vehicle Association (ROHVA) and Outdoor Power Equipment Institute (OPEI) in the development of voluntary standards for ROVs. Staff conducted dynamic and static tests on ROVs, shared test results with ROHVA and OPEI, and participated in the development of revised voluntary standards to address staff's concerns with vehicle stability, vehicle handling, and occupant protection. The voluntary standards for ROVs were revised and published in 2016 (ANSI/ROHVA 1-2016 and ANSI/OPEI B71.9-2016). Staff assessed the new voluntary standard requirements and prepared a termination of rulemaking briefing package that was submitted to the Commission on November 22, 2016. The Commission voted not to terminate the rulemaking associated with ROVs. In the FY 2020 Operating Plan, the Commission directed staff to prepare a rulemaking termination briefing package. Staff is working on a rulemaking termination briefing package.

Timetable:

Action | Date | FR Cite
Staff Sends ANPRM Briefing Package to Commission | 10/07/09
Commission Decision | 10/21/09
ANPRM | 10/28/09 | 74 FR 55495
ANPRM Comment Period Extended | 12/22/09 | 74 FR 67987
Extended Comment Period End | 03/15/10
Staff Sends NPRM Briefing Package to Commission | 09/24/14
Staff Sends Supplemental Information on ROVs to Commission | 10/17/14
Commission Decision | 10/29/14
NPRM Published in Federal Register | 11/19/14 | 79 FR 68964
NPRM Comment Period Extended | 01/23/15 | 80 FR 3535
Extended Comment Period End | 04/08/15
Staff Sends Briefing Package Assessing Voluntary Standards to Commission | 11/22/16
Commission Decision Not to Terminate | 01/25/17
Staff Sends Briefing Package to Commission | 11/00/20

Regulatory Flexibility Analysis Required: Yes.

Agency Contact: Caroleene Paul, Project Manager, Directorate for Engineering Sciences, Consumer Product Safety Commission, National Product Testing and Evaluation Center, 5 Research Place, Rockville, MD 20850, Phone: 301 987-2225, Email: cpaul@cpsc.gov.

RIN: 3041-AC78

CONSUMER PRODUCT SAFETY COMMISSION (CPSC)

Long-Term Actions

412. Portable Generators

E.O. 13771 Designation: Independent agency.

Legal Authority: 15 U.S.C. 2051

Abstract: In 2006, the Commission issued an advance notice of proposed rulemaking (ANPRM) under the Consumer Product Safety Act (CPSA) concerning portable generators. The ANPRM discussed regulatory options that could reduce deaths and injuries related to portable generators, particularly those involving carbon monoxide (CO) poisoning. In FY 2006, staff awarded a contract to develop a prototype generator engine with reduced CO in the exhaust. Also, in FY 2006, staff entered into an interagency agreement (IAG) with the National Institute of Standards and Technology (NIST) to conduct tests with a generator, in both off-the-shelf and prototype configurations, operating in the garage attached to NIST's test house. In FY 2009, staff entered into a second IAG with NIST with the goal of developing CO emission performance requirements for a possible proposed regulation that would be based on health effects criteria. After additional staff and contractor work, the Commission issued a notice of proposed rulemaking (NPRM) in 2016, proposing a performance standard that would limit the CO emissions from operating portable generators. In 2018, two voluntary standards adopted different CO mitigation requirements intended to address the CO poisoning hazard associated with portable generators. Staff developed a simulation and analysis plan to evaluate the effectiveness of those voluntary standards' requirements. In 2019, the Commission sought public comments on staff's plan. Staff considered those comments and revised the plan and is now executing it. In August 2020, staff submitted to the Commission a draft notice of availability of the modified plan for evaluating the voluntary standards; the Commission published the notice of availability in August 2020.

Timetable:

Action | Date | FR Cite
Staff Sent ANPRM to Commission | 07/06/06
Staff Sent Supplemental Material to Commission | 10/12/06
Commission Decision | 10/26/06
Staff Sent Draft ANPRM to Commission | 11/21/06
ANPRM | 12/12/06 | 71 FR 74472
ANPRM Comment Period End | 02/12/07
Staff Releases Research Report for Comment | 10/10/12
NPRM | 11/21/16 | 81 FR 83556
NPRM Comment Period Extended | 12/13/16 | 81 FR 89888
Public Hearing for Oral Comments | 03/08/17 | 82 FR 8907
NPRM Comment Period End | 04/24/17
Staff Sends Notice of Availability to the Commission | 06/26/19
Commission Decision | 07/02/19
Notice of Availability | 07/09/19 | 84 FR 32729
Staff Sends Notice of Availability to Commission | 08/12/20
Commission Decision | 08/19/20
Notice of Availability | 08/24/20 | 85 FR 52096
Staff Report on Evaluation of Voluntary Standards | To Be Determined

Regulatory Flexibility Analysis Required: Yes.

Agency Contact: Janet L. Buyer, Project Manager, Directorate for Engineering Sciences, Consumer Product Safety Commission, National Product Testing and Evaluation Center, 5 Research Place, Rockville, MD 20850, Phone: 301 987-2293, Email: jbuyer@cpsc.gov.

RIN: 3041-AC36

CONSUMER PRODUCT SAFETY COMMISSION (CPSC)

Completed Actions

413. Standard for Gates and Other Enclosures

E.O. 13771 Designation: Independent agency.

Legal Authority: Pub. L. 110-314, sec. 104

Abstract: Section 104 of the Consumer Product Safety Improvement Act of 2008 (CPSIA) requires the Commission to issue consumer product safety standards for durable infant or toddler products. The Commission is directed to assess the effectiveness of applicable voluntary standards, and in accordance with the Administrative Procedure Act, promulgate consumer product safety standards that are the same as the voluntary standard or more stringent than the voluntary standard if the Commission determines that more stringent standards would further reduce the risk of injury associated with the product. The Commission issued a notice of proposed rulemaking (NPRM) for gates and enclosures as part of this series of standards for durable infant or toddler products. Staff provided a final rule briefing package to the Commission in May 2020, and the Commission voted to approve the final rule, which was published in the Federal Register in July 2020. The final rule becomes effective in July 2021.

Timetable:

Action | Date | FR Cite
Staff Sends NPRM Briefing Package to Commission | 06/19/19
Commission Decision | 06/25/19
NPRM | 07/08/19 | 84 FR 32346
Staff Sends Final Rule Briefing Package to Commission | 05/27/20
Commission Decision | 06/02/20
Final Rule | 07/06/20 | 85 FR 40100
Final Rule Effective | 07/06/21

Regulatory Flexibility Analysis Required: Yes.

Agency Contact: Hope Nesteruk, Project Manager, Directorate for Engineering Sciences, Consumer Product Safety Commission, 5 Research Place, Rockville, MD 20850, Phone: 301 987-2579, Email: hnesteruk@cpsc.gov.

RIN: 3041-AD44

[FR Doc. 2021-04330 Filed 3-30-21; 8:45 am]

BILLING CODE 6355-01-P